DEPARTMENT OF HEALTH AND HUMAN SERVICES

Secretary's Advisory Committee on Re-Designation of Head Start Grantees

AGENCY: U.S. Department of Health and Human Services (HHS).

ACTION: Notice; FACA Committee Meetings Announcement.

Pursuant to Public Law 92-463, the Federal Advisory Committee Act, as amended (5 U.S.C. Appendix 2), notice is hereby given of the second meeting of the Secretary's Advisory Committee on Re-designation of Head Start Grantees, Department of Health and Human Services (HHS). The meeting will be held from approximately 8:30 a.m. to 5 p.m. on Wednesday, June 4, 2008, and from 8:30 a.m. to 5 p.m. on Thursday, June 5, 2008, at the Four Points by Sheraton, 1201 K Street, NW., Washington, DC. The meeting will be open to the public; however, seating is limited and preregistration is encouraged (see below).

FOR FURTHER INFORMATION CONTACT: Colleen Rathgeb, Office of Head Start, e-mail colleen.rathgeb@acf.hhs.gov or (202) 205-7378.

SUPPLEMENTARY INFORMATION: The Improving Head Start for School Readiness Act of 2007 [Pub. L. 110-134, Section 641(c)(2) [42 U.S.C. 9836]] requires the Secretary of Health and Human Services to develop a system for designation renewal to determine if Head Start agencies are delivering high-quality and comprehensive Head Start programs that meet the educational, health, nutritional, and social needs of the children and families they serve, and meet program and financial management requirements and the program performance standards. The Advisory Committee on Re-Designation of Head Start Grantees will provide advice and recommendations on the development of a transparent, reliable and valid system for designation renewal as required under the statute.

The Advisory Committee will hear presentations on and discuss the grantee application and renewal process; recommendations on prospective criteria; data sources; and plans for future work of the Committee.

The meeting will be open to the public; however, seating is limited and preregistration is encouraged. To pre-register, please e-mail AdvisoryCommittee@pal-tech.com with “Meeting Registration” in the subject line or call Tara Nordlander at 703-243-0495 by 5 p.m. EST, on June 2, 2008. Registration must include your name, affiliation, phone number, and days attending. If you require a sign language interpreter or other special assistance, please call Tara Nordlander at 703-243-0495 as soon as possible.

Written comments may be submitted electronically to AdvisoryCommittee@pal-tech.com with “Public Comment” in the subject line. HHS recommends that you include your name, mailing address, and an e-mail address or other contact information in the body of your comment. This ensures that you can be identified as the submitter of the comment, and it allows HHS to contact you if further information on the substance of the comment is needed or if your comment cannot be read due to technical difficulties. HHS's policy is that HHS will not edit your comment, and any identifying or contact information provided in the body of a comment will be included as part of the comment placed in the official public record. If HHS cannot read your comment because of technical difficulties and cannot contact you for clarification, HHS may not be able to consider your comment. Written comments to be available at the meeting will be accepted up to Friday, May 30, 2008.

Documents pertaining to Committee deliberations will be available upon written request beginning on June 9, 2008. Requests should be sent to AdvisoryCommittee@pal-tech.com with “Materials Request” in the subject line and should include include your name, mailing address, and an e-mail address or other contact information.

Because of the Advisory Committee's full agenda and the timeframe in which to cover the agenda topics, there will be no opportunity for oral presentations from the public at this meeting. The public will be able to submit comments to AdvisoryCommittee@pal-tech.com both before and after the meeting; these will be included in the public record.

Dated: May 15, 2008.
Daniel Schneider,
Acting Assistant Secretary for Children and Families.

[FR Doc. E8-11552 Filed 5-22-08; 8:45 am]

BILLING CODE 4184-01-P